DEPARTMENT OF HEALTH AND HUMAN SERVICES

Health Resources and Services Administration

Agency Information Collection Activities: Submission to OMB for Review and Approval; Public Comment Request; Information Collection Request Title: The National Health Service Corps and Nurse Corps Interest Capture Form, OMB No. 0915-0337—Extension

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 28, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: Information Collection Request Title: The National Health Service Corps and Nurse Corps Interest Capture Form, OMB No. 0915-0337—Extension.

Abstract: The National Health Service Corps (NHSC) and the Nurse Corps of the Bureau of Health Workforce, HRSA, are both committed to improving the health of the Nation's underserved by uniting communities in need with caring health professionals and by supporting communities' efforts to build better systems of care. The NHSC and Nurse Corps Interest Capture Form, which will be used when HRSA staff presents information regarding HRSA funding opportunities for health profession students and providers at national and regional conferences and at campus recruiting events, is an optional form that a health profession student, licensed clinician, faculty member, or clinical site administrator can fill out and submit to HRSA representatives at the event. The purpose of the form is to enable individuals and clinical sites to ask HRSA for periodic program updates and other general information regarding opportunities with the NHSC and/or the Nurse Corps via email. Completed forms will contain information such as the names of the individuals, their email address(es), their city and state, the organization where they are employed (or the school which they attend), the year they intend to graduate (if applicable), how they heard about the NHSC/Nurse Corps, and the programs in which they are interested. Assistance in completing the form will be given by the HRSA staff person (or HRSA representative) who is present at the event.

A 60-day notice was published in the Federal Register on January 3, 2020, Vol. 85, No. 2; pp. 325-326. There were no public comments.

Need and Proposed Use of the Information: The need and purpose of this information collection is to share resources and information regarding the NHSC and Nurse Corps programs with interested conference/event participants.

Likely Respondents: Individual and potential service site conference/event participants interested in the NHSC or Nurse Corps programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
NHSC and Nurse Corps Interest Capture Form | 2,400 | 1 | 2,400 | .025 | 60
Total | 2,400 |  | 2,400 |  | 60

Maria G. Button,
Director, Executive Secretariat.

[FR Doc. 2020-08950 Filed 4-27-20; 8:45 am]

BILLING CODE 4165-15-P